DEPARTMENT OF TRANSPORTATION

Federal Motor Carrier Safety Administration

[Docket No FMCSA-2013-0298]

National Implementation of the New Entrant Safety Assurance Program's Off-Site Safety Audit Procedures

AGENCY: Federal Motor Carrier Safety Administration (FMCSA), DOT.

ACTION: Notice.

SUMMARY: FMCSA announces the completion of its New Entrant Safety Assurance Program Operational Test (Operational Test) and the beginning of the national implementation of the Off-site Safety Audit Procedures. The Off-site Safety Audit Procedures allow FMCSA, and its Motor Carrier Safety Assurance Program State partners (State Partners), to complete an off-site audit of an eligible new entrant motor carrier whereby the new entrant motor carrier can demonstrate basic safety management controls by submitting compliance documentation to a safety auditor via electronic mail (email), fax, or U.S. mail rather than being subject to an on-site safety audit. FMCSA, working with its respective State partners, conducted an 18-month Operational Test of the Off-Site Safety Audit Procedures on new entrant motor carriers domiciled in the following six States: Alaska, California, Florida, Illinois, Montana, and New York; and the Canadian Provinces contiguous to Montana and New York. The Operational Test began July 15, 2013, and concluded on December 31, 2014. FMCSA will phase-in the implementation of the Off-site Safety Audit Procedures on new entrant motor carriers in other states beginning in the summer of 2015 and continuing over the course of 36 months.

DATES: National implementation of the Off-site Safety Audit Procedures will begin in the summer of 2015 and continue over the next 36 months.

FOR FURTHER INFORMATION CONTACT: Mr. Joseph Bennett, Federal Motor Carrier Safety Administration, Compliance Division, 1200 New Jersey Avenue SE., Washington, DC 20590, Telephone 202-365-8324, EMAIL: joseph.bennett@dot.gov.

SUPPLEMENTARY INFORMATION:

Background

Prior to October 1, 2013, 49 CFR part 385 subpart D required a safety audit within 18 months after a new entrant motor carrier began operations to determine if the carrier was exercising basic safety management controls. FMCSA and its State Partners conducted all new entrant safety audits at the motor carrier's principle place of business, which was time and labor intensive. The timeframe for conducting these safety audits was further limited by Section 32102 of the Moving Ahead for Progress in the 21st Century (MAP-21) [Pub. L. 112-141, 126 Stat. 405 (July 6, 2012)], which required FMCSA to complete safety audits within 12 months for property carriers and within 120 days for motorcoach passenger carriers. MAP 21's tightened deadlines, coupled with an increase in new entrant applicants, prompted FMCSA to develop a more efficient mechanism for conducting safety audits.

On September 4, 2013, FMCSA published a notice in the Federal Register announcing the Operational Test (78 FR 54510). The Operational Test, which began in July 2013, allowed certain eligible new entrant motor carriers to submit compliance documentation to safety auditors either electronically, via email, or via fax. A safety auditor would then conduct the safety audit remotely, assessing the new entrant's safety performance and determining if it has adequate safety management practices pursuant to 49 CFR part 385, subpart D. New entrant carriers subject to off-site safety audits had the same regulatory requirements and privileges under 49 CFR part 385 subpart D as those carriers subject to on-site safety audits. New entrant motor carriers that transport either hazardous material or passengers were not eligible for an off-site safety audit. New entrant motor carriers with a known safety issue (i.e., received an expedited action notice pursuant to 49 CFR 385.308 or had Behavior Analysis and Safety Improvement Categories (BASICs) scores above the Safety Measurement System thresholds) were also not eligible for an off-site safety audit.

On September 9, 2014, FMCSA announced changes to the Operational Test (79 FR 53511). First, the Agency updated the IT systems so that when an automatic failure violation (as listed in 49 CFR 385.321) is identified by the Agency based on the records the motor carrier provides during the document submission process, the carrier will automatically fail the new entrant safety audit and be placed into the corrective action process. Second, the Agency extended the Operational Test through December 2014 to ensure sufficient data is available to calculate the established metrics in order to make an informed decision on any future actions.

FMCSA monitored and evaluated the effectiveness, efficiency, innovation, and flexibility of the Operational Test procedures in contrast to the current New Entrant Safety Assurance Program during and after the test using several performance metrics. Additional information about the Operational Test is available at www.regulations.gov under Docket No. FMCSA-2013-0298.

Upon conclusion of the 18-month Operational Test, FMCSA determined that the data supported the effectiveness of the off-site procedures in determining the safety fitness of eligible new entrant carriers. The off-site procedures further allowed FMCSA to better meet the obligation of conducting safety audits on all new entrant carriers within the MAP-21 timeframes. As a result, FMCSA is moving forward with the nationwide implementation of the Off-Site Safety Audit Procedures.

Results from the 18-month Operational Test showed that:

• 60 percent of new entrant carriers were eligible for, and received, off-site safety audits;

• The number of safety audits completed within the test states increased by 4 percent;

• Off-site safety audits take 33 percent less time to conduct than on-site safety audits;

• Off-site safety audits saved 58 percent on travel costs;

• Carriers identified for the less resource-intensive off-site safety audit were performing well during subsequent roadside inspections; and,

• Post-safety audit carriers receiving off-site safety audits, on average, have equivalent or fewer 49 CFR 385.308 expedited actions and violation rates than carriers receiving an on-site safety audit.

Based on the success of the Operational Test, FMCSA will begin national implementation of the Off-site Safety Audit Procedures for eligible new entrant motor carriers under the New Entrant Safety Assurance Program. Starting in the summer of 2015, FMCSA will phase in use of the off-site procedures as additional State Partners are able to be trained on the process, policy, and information technology system used in conducting an off-site safety audit. In the first phase, FMCSA will implement use of off-site new entrant safety audits in the following 11 States: Georgia, Maine, Michigan, Minnesota, North Carolina, North Dakota, Oregon, South Carolina, South Dakota, Vermont, Wyoming, and Washington, DC.

Over the course of the next 36 months, FMCSA will continue to expand the program to FMCSA State Partners, and new entrant motor carriers domiciled in other states. FMCSA will provide a schedule on its public Web site at http://www.fmcsa.dot.gov/safety/new-entrant-safety-assurance-program for the additional States implementing the Off-site Safety Audit Procedures. FMCSA anticipates completion of the nationwide expansion of the Off-Site Safety Audit Procedures by the summer of 2018. As the program expands eligible new entrant applicants will receive a written or verbal notice from FMCSA of their eligibility for the off-site safety audit with instructions on the Off-Site Safety Audit Procedures.

Issued on: June 22, 2015.
T.F. Scott Darling, III,
Chief Counsel.

[FR Doc. 2015-15867 Filed 6-26-15; 8:45 am]

BILLING CODE 4910-EX-P